DEPARTMENT OF ENERGY

Federal Energy Regulatory Commission

[Docket No. IC16-4-000]

Commission Information Collection Activities (FERC-500 and FERC-542); Consolidated Comment Request

AGENCY: Federal Energy Regulatory Commission, Energy.

ACTION: Comment request.

SUMMARY: In compliance with the requirements of the Paperwork Reduction Act of 1995, 44 U.S.C. 3506(c)(2)(A), the Federal Energy Regulatory Commission (Commission or FERC) is submitting two information collections (FERC-500, Application for License/Relicense and Exemption for Water Projects with More than 5 Megawatt Capacity, and FERC-542, Gas Pipeline Rates: Rate Tracking) to the Office of Management and Budget (OMB) for review of the information collection requirements. Any interested person may file comments directly with OMB and should address a copy of those comments to the Commission as explained below. The Commission previously issued a Notice in the Federal Register (80 FR 79322, 12/21/2015) and Errata Notice (81 FR 6844, 2/9/2016) requesting public comments. The Commission received no public comments and is making this notation in its submittals to OMB.

DATES: Comments on the collections of information are due April 21, 2016.

ADDRESSES: Comments filed with OMB, identified by the OMB Control Nos. 1902-0058 (FERC-500) and 1902-0070 (FERC-542), should be sent via email to the Office of Information and Regulatory Affairs: oira_submission@omb.gov, Attention: Federal Energy Regulatory Commission Desk Officer. The Desk Officer may also be reached via telephone at 202-395-0710.

A copy of the comments should also be sent to the Commission, in Docket No. IC16-4-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Type of Request: Three-year extension of the information collection requirements for the collections described below with no changes to the current reporting or recordkeeping requirements. Please note that each collection is distinct.

Comments: Comments are invited on: (1) Whether the collections of information are necessary for the proper performance of the functions of the Commission, including whether the information will have practical utility; (2) the accuracy of the agency's estimates of the burden ¹ and cost of the collections of information, including the validity of the methodology and assumptions used; (3) ways to enhance the quality, utility and clarity of the information collections; and (4) ways to minimize the burden of the collections of information on those who are to respond, including the use of automated collection techniques or other forms of information technology.

¹ The Commission defines “burden” as the total time, effort, or financial resources expended by persons to generate, maintain, retain, or disclose or provide information to or for a Federal agency. For further explanation of what is included in the information collection burden, refer to 5 Code of Federal Regulations 1320.3.

FERC-500, Application for License/Relicense and Exemption for Water Projects With More Than 5 Megawatt ² Capacity

² Megawatt = MW.

OMB Control No.: 1902-0058

Abstract: Pursuant to the Federal Power Act, the Commission is authorized to issue licenses and exemptions to citizens of the United States, or to any corporation organized under the laws of United States or any State thereof, or to any State or municipality for the purpose of constructing, operating, and maintaining dams, water conduits, reservoirs, power houses, transmission lines, or other project works necessary or convenient for the development and improvement of navigation and for the development, transmission, and utilization of power across, along, from, or in any of the streams or other bodies of water over which Congress has jurisdiction under its authority to regulate commerce with foreign nations and among the several States, or upon any part of the public lands and reservations of the United States.

FERC-500 includes an application (for water projects with more than 5 megawatt capacity) for a hydropower license/re-license or exemption, annual conveyance report,³ and comprehensive plans. FERC-500 includes certain reporting requirements in 18 CFR 4,⁴ 5, 8, 16, 141, 154.15, and 292. Depending on the type of application or filing, it may include project description, schedule, resource allocation, project operation, construction schedule, cost, and financing; and an environmental report.

³ Annual conveyance reports are filed for both major and minor licenses. 80% of the reports are related to major licenses.

⁴ FERC staff has not received any application filings pertaining to the regulations described under 18 CFR 4.303 in over 20 years. It remains in 18 CFR and is included in FERC-500.

After an application is filed, the Federal agencies with responsibilities under the Federal Power Act (FPA) and other statutes,⁵ the States, Indian tribes, and other participants have opportunities to request additional studies and provide comments and recommendations.

⁵ Statutes include the Electric Consumers Protection Act (ECPA), the National Environmental Policy Act (NEPA), the Endangered Species Act, the Federal Water Pollution Control Amendments of 1972 (the Clean Water Act), and the Coastal Zone Management Act.

Submittal of the FERC-500 application is necessary to fulfill the requirements of the FPA in order for the Commission to make the required finding that the proposal is economically, technically, and environmentally sound, and is best adapted to a comprehensive plan for improving/developing a waterway or waterways.

In the 60-day Notice, we inadvertently included under FERC-500 only the responses and burden associated with major license/re-license applications or modifications for projects over 5 MW. In this Notice, we are including the annual conveyance reports (filed by industry) and comprehensive plans (filed by federal and state agencies which have comprehensive plan status pursuant to 18 CFR 2.19).

Type of Respondent: Applicants for major hydropower licenses or exemptions greater than 5 MW, and Federal and State agencies which have comprehensive plan status.

Estimate of Annual Burden: Applicants for licenses are required to include an estimate of their cost to prepare the license application, which would include nearly all of the reporting requirements in FERC-500.⁶ Because the requirements for an exemption application are largely the same as that of a license application, the license application costs are a good estimate of the exemption application costs and of the overall burden of preparing license and exemption applications for projects greater than 5 MW. To estimate the total annual burden, we averaged the reported license application costs for proposed projects greater than 5 MW filed in fiscal years (FY) 2012 through 2015. The results are presented in the table below:

⁶ FERC-500 also includes requirements in 18 CFR 2.19, 4.201, 4.202, 4.303, 4.35, 8.1, 8.2, 16.19, 141.15, and 292.208, which do not directly relate to preparation of a license/re-license or exemption application for a project greater than 5 MW.

FERC-500 (Application for License/Relicense and Exemption for Water Projects With More Than 5 MW Capacity)
Fiscal year | 2012 | 2013 | 2014 | 2015
Number of Applications (Responses) | 9 | 7 | 15 | 2
Average Cost per Response | $2,059,828 | $1,234,987 | $3,776,864 | $500,000
Total Burden Cost | 18,538,451 | 8,644,909 | 56,652,960 | 1,000,000

The average burden cost per application over the period FY 2012 through FY 2015 was approximately $2,570,797.⁷ We estimate a cost (salary plus benefits) of $72/hour.⁸ Using this hourly cost estimate, the average burden for each application filed from FY 2012 to FY 2015 is 35,706 hours.

⁷ $84,836,320 (Total burden cost from FY2012-2015) ÷ 33 (total number of applications received from FY2012-2015) = $2,570,797.

⁸ FERC staff estimates that industry is similarly situated in terms of the hourly cost for salary plus benefits. Therefore, we are using the FERC FY 2015 hourly cost (salary plus benefits) of $72/hour.

The average annual burden and cost (including estimates for annual conveyance reports and comprehensive plans) follow.⁹

⁹ The hourly cost (wages plus benefits) for annual conveyance reports and comprehensive reports is similarly estimated to be $72/hour.

Type of filing | Number of respondents | Annual number of responses per respondent | Total number of responses | Average burden hours & cost ($) per response | Total annual burden hours & total annual cost ($) | Cost per respondent ($)
| (1) | (2) | (1) * (2) = (3) | (4) | (3) * (4) = (5) | (5) ÷ (1)
License/Re-license (application or modification) | 9 | 1 | 9 | 35,705.52 hrs.; $2,570,797.42 | 321,349.68 hrs.; $23,137,176.82 | $2,570,797.42
Annual Conveyance Reports (under 18 CFR 141.15) | ¹⁰ 41 | 1 | 41 | 3 hrs.; $216 | 123 hrs.; $8,856 | 216
Comprehensive Plans (under 18 CFR 2.19) ¹¹ | 33 | 1 | 33 | 1 hr.; $72 | 33 hrs.; $2,376 | 72
Total | 83 |  | 83 |  | 321,505.68 hrs.; $23,148,408.82 |

FERC-542, Gas Pipeline Rates: Rate Tracking

OMB Control No.: 1902-0070

¹⁰ Order 540 changed the reporting requirement to state that licensees are only to report if they convey lands/waters under the standard land use article. Over the last 4 years, the number of filings averaged 26. Based on filings in 2016, the number of filings is expected to increase and is estimated at 41 per year. 80% of the conveyance reports are for major projects.

¹¹ The comprehensive plans apply to all projects, minor and major. These plans are not capacity-specific, so the complete estimated number of filings is included here under FERC-500, however some plans would also apply to FERC-505.

Abstract: The Natural Gas Act (NGA) requires FERC to regulate the transmission and sale of natural gas for resale in interstate commerce and to ensure the rates jurisdictional natural gas pipelines charge are just and reasonable. It provides FERC with authority to implement NGA mandates through its rules and regulations. FERC allows jurisdictional pipelines to flow through to their customers such costs as fuel or electric power costs necessary to operate compressor stations as well as the costs of storage services; research, development, and demonstration (RD&D) expenditures and FERC annual charge adjustment assessments. To ensure these charges result in just and reasonable rates, FERC requires jurisdictional pipelines to file detailed and summary information on these flowed costs in the FERC-542. Analyses of FERC-542 data helps the Commission evaluate the charges to ensure compliance with NGA rate requirements.

The FERC-542 contains the following information collection requirements: (1) Research, development, and deployment (RD&D) expenditures [18 CFR 154.401]; (2) annual charge adjustments (ACA) [18 CFR 154.402]; and (3) periodic rate adjustments [18 CFR 154.403]. The general requirements for tariff filings that are specified in the following regulations apply to all FERC-542 filings: 18 CFR 154.4, 18 CFR 154.7, 18 CFR 154.107, and 18 CFR 154.201.

Type of Respondent: Natural Gas Pipelines

Estimate of Annual Burden: The Commission estimates the annual public reporting burden and cost ¹² for the information collection as:

¹² FERC staff estimates that industry is similarly situated in terms of the hourly cost for salary plus benefits. Therefore, we are using the FERC FY 2015 hourly cost (salary plus benefits) of $72/hour.

FERC-542 (Gas Pipeline Rates: Rate Tracking)
Number of respondents | Annual number of responses per respondent | Total number of responses | Average burden & cost ($) per response | Total annual burden hours & total annual cost | Cost per respondent ($)
(1) | (2) | (1) * (2) = (3) | (4) | (3) * (4) = (5) | (5) ÷ (1)
87 | 2.13 | 185 | 2 hrs.; $144 | 370 hrs.; $26,640 | $306

Dated: March 16, 2016.
Nathaniel J. Davis, Sr.,
Deputy Secretary.

[FR Doc. 2016-06368 Filed 3-21-16; 8:45 am]

BILLING CODE 6717-01-P